DEPARTMENT OF EDUCATION

Privacy Act of 1974; System of Records—Impact Evaluation of a School-based Violence Prevention Program

AGENCY: Institute of Education Sciences, Department of Education.

ACTION: Notice of a new system of records.

SUMMARY: In accordance with the Privacy Act of 1974, as amended (Privacy Act), the Department of Education (the Department) publishes this notice of a new system of records entitled “Impact Evaluation of a School-based Violence Prevention Program,” 18-13-15. The purpose of the impact evaluation is to determine the effectiveness of a violence prevention program comprised of two violence prevention interventions for middle schools using a rigorous research design. Currently, there is lack of rigorous research concerning school-based violence prevention in middle schools. The Department's contractor, RTI International (RTI), selected the violence prevention interventions to be evaluated through an open competition with advisement from a panel of experts in the field of violence prevention. RTI selected the Responding in Peaceful and Positive Ways (RiPP) and Best Behavior interventions and combined the two approaches into a single violence prevention program with two components: (1) A curriculum-based model to facilitate students' social competency, problem solving, and self-control skills, and (2) a whole-school model that targets school practices and policies usually through classroom management or teaching strategies, or through systemic reorganization and modification of school management, disciplinary policies, and enforcement procedures. The RiPP intervention will provide the curriculum-based component of the program , and the Best Behavior intervention will provide the whole-school component of the program.

The system will contain information about students, teachers, and other school staff members in schools that are randomly assigned either to implement the violence prevention program or not to implement the program. The sample will consist of approximately 20,000 students and approximately 3,000 teachers and other school staff members drawn from approximately 40 schools over 3 years. Each of the 40 schools that participate in the study will be randomly assigned either to receive the violence prevention program or not to receive the program so that approximately 20 schools are in each study condition. At each school, sixth graders will be surveyed in the 2006-2007 school year, seventh graders in the 2007-2008 school year, and eighth graders in the 2008-2009 school year. The teacher survey will be administered to a random sample of 24 teachers (stratified by grade) at each of the middle schools participating in the study. Teachers will complete the survey in spring of 2007, 2008, and 2009, with a new random sample of teachers selected each year. Other school staff members will be interviewed about victimization and their experiences implementing the program.

The system of records will include students' names, demographic information (such as date of birth and race/ethnicity), self-reported attitudes about violence and feelings of safety, self-reported victimization, and self-reported violent and delinquent behaviors. The system also will include information from school records such as records of students' attendance, suspensions, expulsions, and school policy violations. The system also will include teachers' and other school staff members' self-reported victimization at school as well as their experiences with training and technical assistance related to their schools' violence prevention efforts.

DATES: The Department seeks comment on the new system of records described in this notice, in accordance with the requirements of the Privacy Act. We must receive your comments on the proposed routine uses for the system of records described in this notice on or before November 1, 2006.

The Department filed a report describing the new system of records covered by this notice with the Chair of the Senate Committee on Homeland Security and Governmental Affairs, the Chair of the House Committee on Government Reform, and the Acting Administrator of the Office of Information and Regulatory Affairs, Office of Management and Budget (OMB) on September 27, 2006. This system of records will become effective at the later date of: (1) The expiration of the 40 day period for OMB review on November 6, 2006 or (2) November 1, 2006, unless the system of records needs to be changed as a result of public comment or OMB review.

ADDRESSES: Address all comments about the proposed routine uses of this system of records to Dr. Ricky Takai, Associate Commissioner, Evaluation Division, National Center for Education Evaluation and Regional Assistance, Institute of Education Sciences, U.S. Department of Education, 555 New Jersey Avenue, NW., Room 502D, Washington, DC 20208-0001. Telephone: (202) 208-7083. If you prefer to send comments through the Internet, use the following address: comments@ed.gov.

You must include the term “Violence Prevention Impact Study” in the subject line of the electronic message.

During and after the comment period, you may inspect all comments about this notice in room 502D, 555 New Jersey Avenue, NW., Washington, DC, between the hours of 8 a.m. and 4:30 p.m., eastern time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Dr. Ricky Takai. Telephone: (202) 208-7083. If you use a telecommunications device for the deaf (TDD), you may call the Federal Relay Service (FRS) at 1-800-877-8339.

Individuals with disabilities may obtain this document in an alternative format (e.g., Braille, large print, audiotape, or computer diskette) on request to the contact person listed under this section.

SUPPLEMENTARY INFORMATION:

Introduction

The Privacy Act 5 U.S.C. 552a requires the Department to publish in the Federal Register this notice of a new system of records maintained by the Department. The Department's regulations implementing the Privacy Act are contained in part 5b of title 34 of the Code of Federal Regulations (CFR).

The Privacy Act applies to information about individuals that contains individually identifiable information that is retrieved by a unique identifier associated with each individual, such as a name or social security number. The information about each individual is called a “record,” and the system, whether manual or computer-based, is called a “system of records.” The Privacy Act requires each agency to publish notices of new or altered systems of records in the Federal Register and to submit reports to the Administrator of the Office of Information and Regulatory Affairs, OMB, the Chair of the Senate Committee on Homeland Security and Governmental Affairs, and the Chair of the House Committee on Government Reform, whenever the agency publishes a new or altered system of records.

Electronic Access to This Document

You may view this document, as well as all other documents of this Department that are published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498, or in the Washington, DC, area at (202) 512-1530.

Note: The official version of this document is the document published in the Federal Register. Free Internet access to the official edition of the Federal Register and the CFR is available on GPO Access at: http://www.gpoaccess.gov/nara/index.html.

Dated: August 15, 2006.
Grover Whitehurst,
Director, Institute of Education Sciences.

For the reasons discussed in the preamble, the Director of the Institute of Education Sciences, U.S. Department of Education (Department), publishes a notice of a new system of records to read as follows:

18-13-15

SYSTEM NAME:

Impact Evaluation of a School-based Violence Prevention Program.

SECURITY CLASSIFICATION:

None.

SYSTEM LOCATION:

(1) Evaluation Division, National Center for Education Evaluation and Regional Assistance, Institute of Education Sciences, U.S. Department of Education, 555 New Jersey Avenue, NW., Room 502D, Washington, DC 20208-0001.

(2) RTI International, 3040 Cornwallis Road, Research Triangle Park, NC 12194.

(3) Tanglewood Research, Inc., 7017 Albert Pick Road, Suite D, Greensboro, NC 27409.

(4) Pacific Institute for Research and Evaluation (PIRE), 1516 Franklin Street, Chapel Hill, NC 27514.

CATEGORIES OF INDIVIDUALS COVERED BY THE SYSTEM:

This system contains records on students, school teachers, and other school staff members who are participating in the Impact Evaluation of a School-based Violence Prevention Program. The purpose of the impact evaluation is to determine the effectiveness of a violence prevention program for middle schools using a rigorous research design. Currently, there is lack of rigorous research concerning school-based violence prevention in middle schools. Through an open competition with advisement from a panel of experts in the field of violence prevention, the Department's contractor, RTI, selected two violence prevention interventions and combined them into a single program for the purpose of this evaluation. The program has the following two components: (1) A curriculum-based model to facilitate students' social competency, problem solving, and self-control skills, and (2) a whole-school model that targets school practices and policies usually through classroom management or teaching strategies, or through systemic reorganization and modification of school management, disciplinary policies, and enforcement procedures. The RiPP intervention will provide the curriculum-based component of the program and the Best Behavior intervention will provide the whole-school component of the program.

The study sample consists of approximately 20,000 students and approximately 3,000 teachers and other school staff members drawn from approximately 40 middle schools over 3 years. Participation of students, teachers, and other school staff members in the evaluation is voluntary.

CATEGORIES OF RECORDS IN THE SYSTEM:

The system includes students' names, demographic information (such as date of birth and race/ethnicity), self-reported attitudes about violence and feelings of safety, self-reported victimization, and self-reported violent and delinquent behaviors. The system also will include information from school records such as records of students' attendance, suspensions, expulsions, and school policy violations. The system also will include teachers' and other staff members' self-reported victimization at school as well as their experiences with training and technical assistance related to their schools' violence prevention efforts.

AUTHORITY FOR MAINTENANCE OF THE SYSTEM:

The evaluation being conducted is authorized under sections 4111(a)(2)(A) and 4122(a) of the Elementary and Secondary Education Act of 1965, as amended by the No Child Left Behind Act of 2001 (ESEA) (20 U.S.C. 7111(a)(2)(A) and 7132(a)), which limits the amount of funds available for program evaluation to $2,000,000 during each fiscal year. Implementation of the violence prevention program being evaluated is authorized under section 4121(a)(2) of the ESEA (20 U.S.C. 7131(a)(2)). The evaluation is also authorized under sections 171(b) and 173 of the Education Sciences Reform Act of 2002 (ESRA) (20 U.S.C. 9561(b) and 9563).

PURPOSE(S):

The information in this system will be used for the following purposes: (1) To support an impact evaluation of a violence prevention program for middle schools; and (2) to provide information for improvement of programs within the Department's Office of Safe and Drug-free Schools.

ROUTINE USES OF RECORDS MAINTAINED IN THE SYSTEM, INCLUDING CATEGORIES OF USERS AND THE PURPOSE OF SUCH USES:

The Department may disclose information contained in a record in this system of records under the routine uses listed in this system of records without the consent of the individual if the disclosure is compatible with the purposes for which the record was collected. These disclosures may be made on a case-by-case basis or, if the Department has complied with the computer matching requirements of the Privacy Act, under a computer matching agreement. Any disclosure of individually identifiable information from a record in this system must also comply with the requirements of section 183 of the ESRA (20 U.S.C. 9573) providing for confidentiality standards that apply to all collections, reporting and publication of data by the Institute of Education Sciences (IES).

Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

DISCLOSURE TO CONSUMER REPORTING AGENCIES:

Not applicable to this system notice.

POLICIES AND PRACTICES FOR STORING, RETRIEVING, ACCESSING, RETAINING, AND DISPOSING OF RECORDS IN THE SYSTEM:

STORAGE:

The Department maintains records on CD-ROM, and the contractor and subcontractors maintain data for this system on computers and in hard copy.

RETRIEVABILITY:

Records in this system are indexed by a number assigned to each student, each teacher or other school staff member that is cross-referenced by the individual's name on a separate list. A list of names of the students whose parents have consented to their participation in the impact evaluation, as well as a list of names of participating teachers and other school staff members will be entered into a Microsoft Access database for purposes of tracking over the three years of the study.

SAFEGUARDS:

All physical access to the Department's site, and the site of the Department's contractor and subcontractors where this system of records is maintained, is controlled and monitored by security personnel. The computer system employed by the Department offers a high degree of resistance to tampering and circumvention. This computer system permits data access to Department and contract staff only on a “need to know” basis, and controls individual users' ability to access and alter records within the system.

The Department's contractor, RTI, and its subcontractors, Tanglewood and PIRE, have established a set of procedures to ensure confidentiality of data. The systems of RTI, Tanglewood, and PIRE ensure that information identifying individuals is in files physically separated from other research data. RTI and its subcontractors will maintain security of the complete set of all master data files and documentation. Access to individually identifiable data will be strictly controlled. All data will be kept in locked file cabinets during nonworking hours and work on hardcopy data will take place in a single room except for data entry. Physical security of electronic data also will be maintained. Security features that protect project data include: Password-protected accounts that authorize users to use the system of records but to access only specific network directories and network software; user rights and directory and file attributes that limit those who can use particular directories and files and determine how they can use them; e-mail passwords that authorize the user to access mail services; and additional security features that the network administrator establishes for projects as needed. The contractor and subcontractor employees who maintain (collect, maintain, use, or disseminate) data in this system must comply with the requirements of the confidentiality standards in section 183 of the ESRA (20 U.S.C. 9573).

RETENTION AND DISPOSAL:

Records are maintained and disposed of in accordance with the Department's Records Disposition Schedules in Part 3 (Research Projects and Management Study Records) and Part 14 (Electronic Records).

SYSTEM MANAGER AND ADDRESS:

Ricky Takai, Associate Commissioner, Evaluation Division, National Center for Education Evaluation and Regional Assistance, Institute of Education Sciences, U.S. Department of Education, 555 New Jersey Avenue, NW., Room 502D, Washington, DC 20208-0001.

NOTIFICATION PROCEDURE:

If you wish to determine whether a record exists regarding you in the system of records, contact the systems manager. Your request must meet the requirements of regulations in 34 CFR 5b.5, including proof of identity.

RECORD ACCESS PROCEDURE:

If you wish to gain access to your record in the system of records, contact the system manager. Your request must meet the requirements of regulations in 34 CFR 5b.5, including proof of identity.

CONTESTING RECORD PROCEDURES:

If you wish to contest the content of a record regarding you in the system of records, contact the system manager. Your request must meet the requirements of regulations in 34 CFR 5b.7, including proof of identity.

RECORD SOURCE CATEGORIES:

The system includes students' names, demographic information (such as date of birth and race/ethnicity), self-reported attitudes about violence and feelings of safety, self-reported victimization, and self-reported violent and delinquent behaviors. The system also will include information from school records such as records of students' attendance, suspensions, expulsions, and school policy violations. The system also will include teachers' and other school staff members' self-reported victimization at school as well as their experiences with training and technical assistance related to the violence prevention program.

EXEMPTIONS CLAIMED FOR THE SYSTEM:

None.

[FR Doc. E6-16172 Filed 9-29-06; 8:45 am]

BILLING CODE 4000-01-P